FEDERAL MARITIME COMMISSION

[Docket No. 22-05]

Foreign Tire Sales, Inc., Complainant, v. Evergreen Shipping Agency (America) Corp.; as agent for Evergreen Line, Evergreen Group d/b/a Evergreen Line, Respondent; Notice of Filing of Complaint and Assignment

Notice is given that a complaint has been filed with the Federal Maritime Commission (Commission) by Foreign Tires Sales, Inc., hereinafter “Complainant”, against Evergreen Shipping Agency (America) Corp.; as agent for Evergreen Line, Evergreen Group d/b/a Evergreen Line (Evergreen), “Respondents”. Complainant alleges that Respondent Evergreen Shipping Agency (America) Corp. is a corporation existing under the laws of the State of New Jersey and agent for Evergreen, a vessel-operating common carrier.

Complainant alleges that Respondents violated 46 U.S.C. 41102(c), 41104(a)(2), 41104(a)(5), 41104(a)(9), and 41104(a)(10) with regard to refusal to provide space on their vessels. The full text of the complaint can be found in the Commission's Electronic Reading Room at https://www2.fmc.gov/readingroom/proceeding/22-05/.

This proceeding has been assigned to Office of Administrative Law Judges. The initial decision of the presiding office in this proceeding shall be issued by March 20, 2023, and the final decision of the Commission shall be issued by October 4, 2023.

Served: March 18, 2022.
William Cody,
Secretary.

[FR Doc. 2022-06210 Filed 3-23-22; 8:45 am]

BILLING CODE 6730-02-P